INTERNATIONAL TRADE COMMISSION

[Investigation No. 731-TA-893 (Second Review)]

Honey From China; Determination

On the basis of the record ¹ developed in the subject five-year review, the United States International Trade Commission (Commission) determines, pursuant to section 751(c) of the Tariff Act of 1930 (19 U.S.C. 1675(c)), that revocation of the antidumping duty order on honey from China would be likely to lead to continuation or recurrence of material injury to an industry in the United States within a reasonably foreseeable time.

¹ The record is defined in sec. 207.2(f) of the Commission's Rules of Practice and Procedure (19 CFR 207.2(f)).

Background

The Commission instituted this review on July 2, 2012 (77 FR 39257) and determined on October 5, 2012 that it would conduct an expedited review (77 FR 65204, October 25, 2012).

The Commission transmitted its determination in this review to the Secretary of Commerce on November 29, 2012. The views of the Commission are contained in USITC Publication 4364 (November 2012), entitled Honey from China: Investigation No. 731-TA-893 (Second Review).

By order of the Commission.
Issued: November 29, 2012.
Lisa R. Barton,
Acting Secretary to the Commission.

[FR Doc. 2012-29290 Filed 12-4-12; 8:45 am]

BILLING CODE 7020-02-P